DEPARTMENT OF ENERGY

Federal Energy Regulatory Commission

Combined Notice of Filings #1

Take notice that the Commission received the following exempt wholesale generator filings:

Docket Numbers: EG19-69-000.

Applicants: Glaciers Edge Wind Project, LLC.

Description: Notice of Self-Certification of Exempt Wholesale Generator Status of Glaciers Edge Wind Project, LLC.

Filed Date: 3/13/19.

Accession Number: 20190313-5074.

Comments Due: 5 p.m. ET 4/3/19.

Take notice that the Commission received the following electric rate filings:

Docket Numbers: ER10-2762-002.

Applicants: Messer Energy Services, Inc.

Description: Notice of Non-Material Change in Status of Messer Energy Services, Inc.

Filed Date: 3/11/19.

Accession Number: 20190311-5275.

Comments Due: 5 p.m. ET 4/1/19.

Docket Numbers: ER19-1265-000.

Applicants: Public Service Company of Colorado.

Description: § 205(d) Rate Filing: 20190313 Joint Operating Agreement—Amendment to be effective 5/13/2019.

Filed Date: 3/13/19.

Accession Number: 20190313-5004.

Comments Due: 5 p.m. ET 4/3/19.

Docket Numbers: ER19-1266-000.

Applicants: Calpine Corporation.

Description: Request for Limited Waiver of Calpine Corporation.

Filed Date: 3/12/19.

Accession Number: 20190312-5232.

Comments Due: 5 p.m. ET 4/2/19.

Docket Numbers: ER19-1267-000.

Applicants: Midcontinent Independent System Operator, Inc. Duke Energy Indiana, LLC.

Description: § 205(d) Rate Filing: 2019-03-13_SA 3280 DEI-Roaming Bison Renewables E&P (J754) to be effective 3/14/2019.

Filed Date: 3/13/19.

Accession Number: 20190313-5068.

Comments Due: 5 p.m. ET 4/3/19.

Docket Numbers: ER19-1268-000.

Applicants: PacifiCorp.

Description: § 205(d) Rate Filing: Tri-State NITSA Rev 9 to be effective 3/1/2019.

Filed Date: 3/13/19.

Accession Number: 20190313-5121.

Comments Due: 5 p.m. ET 4/3/19.

Docket Numbers: ER19-1269-000.

Applicants: Midcontinent Independent System Operator, Inc.

Description: § 205(d) Rate Filing: 2019-03-13_SA 3263 Diamond Trail Wind Energy—MidAmerican GIA (J530) to be effective 2/27/2019.

Filed Date: 3/13/19.

Accession Number: 20190313-5125.

Comments Due: 5 p.m. ET 4/3/19.

Docket Numbers: ER19-1270-000.

Applicants: Midcontinent Independent System Operator, Inc.

Description: § 205(d) Rate Filing: 2019-03-13_SA 3264 Brown Valley Conductor Clearance MPFCA (J488 J493 J526) to be effective 5/13/2019.

Filed Date: 3/13/19.

Accession Number: 20190313-5127.

Comments Due: 5 p.m. ET 4/3/19.

Docket Numbers: ER19-1271-000.

Applicants: ISO New England Inc., New England Power Pool Participants Committee.

Description: § 205(d) Rate Filing: ISO-NE and NEPOOL; Filing re Significant Decrease Calculations to be effective 3/14/2019.

Filed Date: 3/13/19.

Accession Number: 20190313-5128.

Comments Due: 5 p.m. ET 4/3/19.

Docket Numbers: ER19-1278-000.

Applicants: Southern California Edison Company.

Description: § 205(d) Rate Filing: Amended GIA and Distrib Serv Agmt Johanna Energy Center—Santa Ana Storage Proj to be effective 3/14/2019.

Filed Date: 3/13/19.

Accession Number: 20190313-5137.

Comments Due: 5 p.m. ET 4/3/19.

Docket Numbers: ER19-1279-000.

Applicants: Messer Energy Services, Inc.

Description: § 205(d) Rate Filing: Notice of Succession to be effective 3/14/2019.

Filed Date: 3/13/19.

Accession Number: 20190313-5149.

Comments Due: 5 p.m. ET 4/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2019.
Nathaniel J. Davis, Sr.,
Deputy Secretary.

[FR Doc. 2019-05629 Filed 3-22-19; 8:45 am]

BILLING CODE 6717-01-P